DEPARTMENT OF COMMERCE

International Trade Administration

[A-570-918]

Steel Wire Garment Hangers From the People's Republic of China: Partial Rescission of Antidumping Duty Administrative Review

AGENCY: Import Administration, International Trade Administration, Department of Commerce.

DATES: Effective Date: July 11, 2012

FOR FURTHER INFORMATION CONTACT: Kabir Archuletta, AD/CVD Operations, Office 9, Import Administration, International Trade Administration, U.S. Department of Commerce, 14th Street and Constitution Avenue NW., Washington DC 20230; (202) 482-2593.

Background

On November 30, 2011, the Department of Commerce (“the Department”) published in the Federal Register a notice of initiation of an administrative review of the antidumping duty order on steel wire garment hangers from the People's Republic of China (“PRC”) covering the period October 1, 2010, through September 30, 2011.¹ On February 28, 2012, Petitioner ² withdrew its request for an administrative review of the following companies: Ningbo Dasheng Hanger Ind. Co., Ltd., Shanghai Jianhai International Trade Co., Ltd., Shaoxing Andrew Metal Manufactured, Shaoxing Dingli Metal Clotheshorse, Shaoxing Gangyuan Metal Manufacture, and Shaoxing Tongzhou Metal Manufactured Co., Ltd.³ Although Shaoxing Andrew Metal Manufactured, Shaoxing Gangyuan Metal Manufacture, and Shaoxing Tongzhou Metal Manufactured Co., Ltd. also requested reviews, those companies subsequently withdrew their requests on the same date.⁴

¹ See Initiation of Antidumping and Countervailing Duty Administrative Reviews and Request for Revocation in Part, 76 FR 74041 (November 30, 2011) (“Initiation Notice”).

² M&B Metal Products Co., Inc. (“Petitioner”).

³ See Letter from Petitioner to the Secretary of Commerce “Third Administrative Review of Steel Wire Garment Hangers from China—Petitioner's Withdrawal of Review Requests for Specific Companies” (February 28, 2012).

⁴ See Letter from Shaoxing Andrew Metal Manufactured, Shaoxing Gangyuan Metal Manufacture, and Shaoxing Tongzhou Metal Manufactured Co., Ltd., to the Secretary of Commerce “Steel Wire Garment Hangers from the People's Republic of China; Request for Review” (October 31, 2011); Letter from Shaoxing Andrew Metal Manufactured, Shaoxing Gangyuan Metal Manufacture, and Shaoxing Tongzhou Metal Manufactured Co., Ltd., to the Secretary of Commerce “Steel Wire Garment Hangers from the People's Republic of China; Withdraw from Review” (February 28, 2012).

Partial Rescission

Pursuant to 19 CFR 351.213(d)(1), the Secretary will rescind an administrative review, in whole or in part, if a party who requested the review withdraws the request within 90 days of the date of publication of notice of initiation of the requested review. The withdrawal requests filed by Petitioner, Shaoxing Andrew Metal Manufactured, Shaoxing Gangyuan Metal Manufacture, and Shaoxing Tongzhou Metal Manufactured Co., Ltd. were submitted within the 90 day period and, thus, are timely. Because the withdrawal requests were timely submitted and because no other party continues to have an outstanding request for review of the aforementioned companies, in accordance with 19 CFR 351.213(d)(1), we are partially rescinding this review with respect to Ningbo Dasheng Hanger Ind. Co., Ltd., Shanghai Jianhai International Trade Co., Ltd., Shaoxing Andrew Metal Manufactured, Shaoxing Dingli Metal Clotheshorse, Shaoxing Gangyuan Metal Manufacture, and Shaoxing Tongzhou Metal Manufactured Co., Ltd.⁵

⁵ We note that there are additional companies for which review requests were withdrawn within the 90 day period. See Letter from Petitioner to the Secretary of Commerce “Third Administrative Review of Steel Wire Garment Hangers from China—Petitioner's Withdrawal of Review Requests for Specific Companies” (February 28, 2012). However, because these companies do not have a separate rate from a prior segment of this proceeding, we intend to address the disposition of these withdrawal requests in the preliminary results of this review. See, e.g., Honey From the People's Republic of China: Partial Rescission of Antidumping Duty Administrative Review, 77 FR 25682, 25683 n.1 (May 1, 2012); Certain Kitchen Appliance Shelving and Racks From the People's Republic of China: Partial Rescission of Antidumping Duty Administrative Review, 77 FR 12811, 12811 n.1 (March 2, 2012).

Assessment Rates

The Department will instruct U.S. Customs and Border Protection (“CBP”) to assess antidumping duties on all appropriate entries. Ningbo Dasheng Hanger Ind. Co., Ltd., Shanghai Jianhai International Trade Co., Ltd., Shaoxing Andrew Metal Manufactured, Shaoxing Dingli Metal Clotheshorse, Shaoxing Gangyuan Metal Manufacture, and Shaoxing Tongzhou Metal Manufactured Co., Ltd., all have separate rates from a prior segment of this proceeding; therefore, antidumping duties shall be assessed at rates equal to the cash deposit of estimated antidumping duties required at the time of entry, or withdrawal from warehouse, for consumption, during the period October 1, 2010, through September 30, 2011, in accordance with 19 CFR 351.212(c)(2). The Department intends to issue appropriate assessment instructions directly to CBP 15 days after publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: July 3, 2012.
Christian Marsh,
Deputy Assistant Secretary for Antidumping and Countervailing Duty Operations.

[FR Doc. 2012-16937 Filed 7-10-12; 8:45 am]

BILLING CODE 3510-DS-P